OFFICE OF THE UNITED STATES TRADE REPRESENTATIVE

Andean Trade Preference Act (ATPA), as Amended: Request for Public Comments Regarding Beneficiary Countries

AGENCY: Office of the United States Trade Representative.

ACTION: Notice; request for comments.

SUMMARY: In compliance with section 203(f) of the ATPA, as amended, 19 U.S.C. 3202(f)(2), the Office of the United States Trade Representative (USTR) is requesting the views of interested parties on whether the remaining designated beneficiary country (as of May 15, 2012), Ecuador, is meeting the eligibility criteria under the ATPA. (See 19 U.S.C. 3203(b)(6)(B)). This information will be used in the preparation of a report to the Congress on the operation of the program.

DATES: Public comments are due at USTR by noon, May 22, 2012.

ADDRESSES: Public comments should be submitted electronically to www.regulations.gov, docket number USTR-2012-0006. If you are unable to provide submissions through www.regulations.gov, please contact Bennett Harman, at (202) 395-9446 to arrange for an alternative method of transmission.

FOR FURTHER INFORMATION CONTACT: Bennett Harman, Deputy Assistant USTR for Latin America, at (202) 395-9446.

SUPPLEMENTARY INFORMATION: The ATPA, as amended by the Andean Trade Promotion and Drug Eradication Act of 2002 (ATPDEA) in the Trade Act of 2002, 19 U.S.C. 3201 et seq., provides trade benefits for eligible Andean countries. The original Act allowed only Bolivia, Ecuador, Colombia, and Peru to be considered as beneficiary countries if they met eligibility requirements laid out in 19 U.S.C. 3203(b)(6)(B).

In Proclamation 8323 of November 25, 2008, the President determined that Bolivia no longer satisfies the eligibility criteria related to counternarcotics and suspended Bolivia's status as a beneficiary country for purposes of the ATPA and ATPDEA. In a June 30, 2009 report to Congress, the President did not determine that Bolivia satisfies the requirements set forth in section 203(c) of the ATPA (19 U.S.C. 3202(c)) for being designated as a beneficiary country. Therefore, as provided for in section 208(a)(3) of the Act (19 U.S.C. 3206(a)(3)), no duty free treatment or other preferential treatment extended under the ATPA remained in effect with respect to Bolivia after June 30, 2009.

Further, Section 201 of the Omnibus Trade Act of 2010 (Pub. L. 111-344), which re-authorized the ATPDEA, terminated any duty free treatment or other preferential treatment available under ATPDEA to Peru, effective December 31, 2010.

On February 12, 2011, the trade benefits conferred under the ATPDEA lapsed but were re-instated retroactively on October 21, 2011 for eligible countries via section 501 of the United States-Colombia Trade Promotion Agreement Implementation Act (19 U.S.C. 3805 Note). Since January 1, 2011, only Ecuador and Colombia have been eligible beneficiary countries, pursuant to statute. Colombia will no longer be an eligible beneficial country under the ATPDEA as of May 15, 2012, when the U.S.-Colombia Trade Promotion Agreement enters into force (19 U.S.C. 3805 Note).

Section 203(f) of the ATPA (19 U.S.C. 3202(f)) requires the USTR, not later than June 30, 2012, to submit to Congress a report on the operation of the ATPA. Before submitting such report, USTR is required to request comments on whether beneficiary countries are meeting the criteria set forth in 19 U.S.C. 3203(b)(6)(B) (which incorporates by reference the criteria set forth in sections 3202(c) and (d)). USTR refers interested parties to the Federal Register notice published on August 15, 2002 (67 FR 53379), for a full list of the eligibility criteria.

Public Comment Requirements for Submissions: Persons submitting written comments must do so in English and must identify (on the first page of the submission) “USTR Report on Operation of the Andean Trade Preference Act.” Persons may submit public comments electronically to www.regulations.gov docket number USTR-2012-0006. In order to be assured of consideration, comments should be submitted by noon, May 22, 2012.

To submit comments via www.regulations.gov, enter docket number USTR-2012-0006 on the home page and click “search.” The site will provide a search-results page listing all documents associated with this docket. Find a reference to this notice by selecting “Notice” under “Document Type” on the left side of the search-results page, and click on the link entitled “Submit a Comment.” (For further information on using the www.regulations.gov Web site, please consult the resources provided on the Web site by clicking on “How to Use This Site” on the left side of the home page.)

The www.regulations.gov site provides the option of providing comments by filling in a “Type Comments” field, or by attaching a document using an “Upload File” field. It is expected that most comments will be provided in an attached document. If a document is attached, it is sufficient to type “see attached” in the “Type Comments” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Bennett Harman at (202) 395-9675. A non-confidential summary of the confidential information must be submitted to www.regulations.gov. The non-confidential summary will be placed in the docket and open to public inspection.

Information or advice contained in a comment submitted, other than business confidential information, may be determined by USTR to be confidential in accordance with section 135(g)(2) of the Trade Act of 1974 (19 U.S.C. 2155(g)(2). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and open to public inspection.

Please do not attach separate cover letters to electronic submissions; rather, include any information that might appear in a cover letter in the comments themselves. Similarly, to the extent possible, please include any exhibits, annexes, or other attachments in the same file as the submission itself, not as separate files.

USTR strongly urges submitters to file comments through www.regulations.gov, if at all possible. Any alternative arrangements must be made with Bennett Harman in advance of transmitting a comment. Mr. Harman should be contacted at (202) 395-9446. General information concerning USTR is available at http://www.ustr.gov.

Inspection of Submissions: Submissions in response to this notice, except for information granted “business confidential” status, will be available for public viewing at http://www.regulations.gov. Such submissions may be viewed by entering the docket number USTR-2012-0006 in the search field at: http://www.regulations.gov.

Douglas Bell,
Assistant U.S. Trade Representative for Trade Policy & Economics.

[FR Doc. 2012-9838 Filed 4-23-12; 8:45 am]

BILLING CODE P